DEPARTMENT OF JUSTICE

Antitrust Division

Notice Pursuant to the National Cooperative Research and Production Act of 1993—International Electronics Manufacturing Initiative

Notice is hereby given that, on December 27, 2007, pursuant to Section 6(a) of the National Cooperative Research and Production Act of 1993, 15 U.S.C. 4301 et seq. (“the Act”), International Electronics Manufacturing Initiative (“iNEMI”) has filed written notifications simultaneously with the Attorney General and the Federal Trade Commission disclosing changes in its membership. The notifications were filed for the purpose of extending the Act's provisions limiting the recovery of antitrust plaintiffs to actual damages under specified circumstances. Specifically, Endicott Interconnect Technologies, Inc. (EIT), Endicott, NY; Dyconex AG, Bassersdorf, SWITZERLAND; Huawei Technologies Co., Ltd., Shenzhen, PEOPLE'S REPUBLIC OF CHINA; MED-EL Elektromedizinische Geräte GmbH, Innsbruck, AUSTRIA; and Test Research, Inc., Taipei, TAIWAN have been added as parties to this venture.

Also, Coherent, Inc., Santa Clara, CA; Dell, Inc., Round Rock, TX; FCI, Versailles, FRANCE; IBM Corporation, Somers, NY; KLA Tencor Corporation, San Jose, CA; Medtronic, Inc., Minneapolis, MN; Microsoft Corporation, Redmond, WA; and Supresta, Ardsley, NY have withdrawn as parties to this venture.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on December 27, 2006. A notice was published in the Federal Register pursuant to Section 6(b) of the Act on February 12, 2007 (72 FR 6577).

Patricia A. Brink,
Deputy Director of Operations, Antitrust Division.

[FR Doc. 08-592 Filed 2-8-08; 8:45 am]

BILLING CODE 4410-11-M